DEPARTMENT OF STATE

[Public Notice 6633]

In the Matter of the Review of the Designation of Abu Nidal Organization Movement (ANO) and Palestinian Liberation Front—Abu Abbas Faction (PLF) and All Designated Aliases, as Foreign Terrorist Organizations Pursuant to Section 219 of the Immigration and Nationality Act, as Amended

Based upon a review of the Administrative Record assembled in this matter pursuant to Section 219(a)(4)(C) of the Immigration and Nationality Act, as amended (8 U.S.C. 1189(a)(4)(C)) (“INA”), and in consultation with the Attorney General and the Secretary of the Treasury, I conclude that the circumstances that were the basis for the 2003 re-designation of the aforementioned organizations as foreign terrorist organizations have not changed in such a manner as to warrant revocation of the designation and that the national security of the United States does not warrant a revocation of the designations.

Therefore, I hereby determine that the designations of the aforementioned organizations as foreign terrorist organizations, pursuant to Section 219 of the INA (8 U.S.C. 1189), shall be maintained.

This determination shall be published in the Federal Register.

Dated: May 13 2009.
James B. Steinberg,
Deputy Secretary of State, Department of State.

[FR Doc. E9-12145 Filed 5-22-09; 8:45 am]

BILLING CODE 4710-10-P